DEPARTMENT OF ENERGY

Federal Energy Regulatory Commission

Combined Notice of Filings #2

Take notice that the Commission received the following exempt wholesale generator filings:

Docket Numbers: EG12-48-000.

Applicants: Ensign Wind, LLC.

Description: Notice of Self-Certification of Exempt Wholesale Generator Status of Ensign Wind, LLC.

Filed Date: 3/27/12.

Accession Number: 20120327-5056.

Comments Due: 5 p.m. ET 4/17/12.

Docket Numbers: EG12-49-000.

Applicants: Tuscola Bay Wind, LLC.

Description: Notice of Self-Certification of Exempt Wholesale Generator Status of Tuscola Bay Wind, LLC.

Filed Date: 3/27/12.

Accession Number: 20120327-5059.

Comments Due: 5 p.m. ET 4/17/12.

Docket Numbers: EG12-50-000.

Applicants: Minco Wind III, LLC.

Description: Notice of Self-Certification of Exempt Wholesale Generator Status of Minco Wind III, LLC.

Filed Date: 3/27/12.

Accession Number: 20120327-5062.

Comments Due: 5 p.m. ET 4/17/12.

Take notice that the Commission received the following electric rate filings:

Docket Numbers: ER10-1144-001; ER11-2005-003; ER11-2013-003; ER11-2014-003.

Applicants: CR Clearing, LLC, Exelon Generation Company, LLC, Wind Capital Holdings, LLC, Cow Branch Wind Power, L.L.C.

Description: Supplement to Updated Market Power Analysis.

Filed Date: 3/21/12.

Accession Number: 20120321-5170.

Comments Due: 5 p.m. ET 4/11/12.

Docket Numbers: ER12-1058-000.

Applicants: Oklahoma Gas and Electric Company.

Description: Supplemental for Docket ER12-1058 to be effective N/A.

Filed Date: 3/27/12.

Accession Number: 20120327-5055.

Comments Due: 5 p.m. ET 4/17/12.

Docket Numbers: ER12-1358-000.

Applicants: Northern States Power Company, a Wisconsin corporation.

Description: 2011 Formula Rate Charges for Post-Retirement Benefits Other than Pensions of Northern States Power Company, a Wisconsin corporation.

Filed Date: 3/27/12.

Accession Number: 20120327-5049.

Comments Due: 5 p.m. ET 4/17/12.

Docket Numbers: ER12-1359-000.

Applicants: Alliance NYGT, LLC.

Description: Baseline Market-Based Application to be effective 3/28/2012.

Filed Date: 3/27/12.

Accession Number: 20120327-5064.

Comments Due: 5 p.m. ET 4/17/12.

Docket Numbers: ER12-1360-000.

Applicants: Pace Global Asset Management, LLC.

Description: NOTICE OF CANCELLATION to be effective 3/27/2012.

Filed Date: 3/27/12.

Accession Number: 20120327-5067.

Comments Due: 5 p.m. ET 4/17/12.

Docket Numbers: ER12-1361-000.

Applicants: PacifiCorp.

Description: BPA Umpqua Business Center Construction Agreement to be effective 3/21/2012.

Filed Date: 3/27/12.

Accession Number: 20120327-5069.

Comments Due: 5 p.m. ET 4/17/12.

Docket Numbers: ER12-1362-000.

Applicants: NaturEner Montana Wind Energy 2, LLC.

Description: Cancellation of Market-Based Rate Tariff to be effective 3/28/2012.

Filed Date: 3/27/12.

Accession Number: 20120327-5074.

Comments Due: 5 p.m. ET 4/17/12.

Docket Numbers: ER12-1363-000.

Applicants: Golden Spread Electric Cooperative, Inc.

Description: Revised Wholesale Power Contracts Filing to be effective 5/28/2012.

Filed Date: 3/27/12.

Accession Number: 20120327-5125.

Comments Due: 5 p.m. ET 4/17/12.

Docket Numbers: ER12-1364-000.

Applicants: New England Power Company.

Description: Notice of Cancellation of Second Revised Service Agreement No. 200 with Rhode Island State Energy Statutory Trust 2000 of New England Power Company.

Filed Date: 3/27/12.

Accession Number: 20120327-5128.

Comments Due: 5 p.m. ET 4/17/12.

Take notice that the Commission received the following qualifying facility filings:

Docket Numbers: QF11-512-000.

Applicants: Uilk Wind Farm, LLC.

Description: Refund Report of Uilk Wind Farm, LLC.

Filed Date: 3/27/12.

Accession Number: 20120327-5090.

Comments Due: 5 p.m. ET 4/17/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2012.
Nathaniel J. Davis, Sr.,
Deputy Secretary.

[FR Doc. 2012-8026 Filed 4-3-12; 8:45 am]

BILLING CODE 6717-01-P